DEPARTMENT OF STATE

[Public Notice No. 4350]

Secretary of State's Advisory Committee on Private International Law: Study Group on International Jurisdiction and Judgments; Notice of Meeting

There will be a public meeting of the Study Group on International Jurisdiction and Judgments of the Secretary of State's Advisory Committee on Private International Law, on Monday June 16, from 9 a.m. to 12:30 p.m. at 1300 I Street, NW., Suite 400 West, Washington DC. Registration will be from 9 to 9:30 a.m., with the business meeting beginning promptly at 9:30 a.m.

The Hague Conference on Private International Law has prepared a new draft of a convention on jurisdiction and the enforcement of judgments that would apply only to cases in which business and commercial parties have chosen a forum in their contract. The draft convention would provide for the enforceability of such choice of court agreements and the enforceability of judgments resulting from courts designated in such agreements.

The Department of State has been asked to inform the Hague Conference by early July whether the United States would support convening international negotiations on the basis of the new draft business-business choice of court convention. It would mean putting aside the more wide-ranging draft convention on jurisdiction and the enforcement of judgments that has been the subject of negotiations at the Hague Conference for more than a decade.

The purpose of the meeting is to hear the views of the private sector on the draft choice of court convention and the possibility of initiating a new round of negotiations on the basis of this text. A copy of the new draft and other documents relevant to the project may be found on the Web site of the Hague Conference (www.hcch.net), or may be requested from Cherise Reid, Office of the Legal Adviser, telephone 202-776-8420, e-mail reidcherised@ms.state.gov.

The Advisory Committee meeting is open to the public up to the capacity of the meeting room. Interested persons are invited to attend and to express their views. Persons who wish to have their views considered may also submit written comments. Written comments should be submitted by e-mail to Jeffrey Kovar at kovarj@ms.state.gov. All comments received will be made available to the public by request to Mr. Kovar via e-mail or by telephone (202-776-8342).

Persons interested in attending the meeting should inform Aaliya K. Bokhari. Interested persons should provide name, affiliation, postal and e-mail addresses, and telephone/telefax numbers to Ms. Bokhari by phone (202-515-2431), fax (202-289-7983) or e-mail (aaliya.k.bokhari@verizon.com), no later than 3 p.m. on Friday June 13. Persons desiring to participate by teleconference should so inform Ms. Bokhari, who will provide call-in information.

Jeffrey D. Kovar,
Assistant Legal Adviser for Private International Law, U.S. Department of State.

[FR Doc. 03-14308 Filed 6-5-03; 8:45 am]

BILLING CODE 4710-08-P